DEPARTMENT OF THE INTERIOR

Bureau of Land Management

[LLNMF000000.L14400000.ET0000 LXSSG0270000 223L1109AF; NMNM-144042]

Notice of Proposed Withdrawal and Public Meetings; San Juan County, NM

AGENCY: Bureau of Land Management, Interior.

ACTION: Notice of proposed withdrawal.

SUMMARY: At the request of the Bureau of Land Management (BLM) and subject to valid existing rights, the Secretary of the Interior proposes to withdraw 351,479.97 acres of public lands from location and entry under the United States mining laws and from leasing under the mineral leasing laws, but not disposal under the mineral materials laws, for a 20-year term. This notice segregates the lands for up to 2 years from location and entry under the United States mining laws and from leasing under the mineral leasing laws, subject to valid existing rights, initiates a 90-day public comment period on the withdrawal application, and notifies the public that one or more public meetings will be held regarding the application.

DATES: Comments and public meeting requests must be received by April 6, 2022. In-person public meetings regarding the withdrawal application will be held on February 23, 2022, from 3:00-4:30 p.m. and 6:00-7:30 p.m. at San Juan College Henderson Fine Arts Building, 4601 College Boulevard, Farmington, New Mexico. All current guidelines issued by the Centers for Disease Control and Prevention and Department of the Interior COVID-19 safety precautions will be strictly enforced. Members of the public are required to pre-register for the in-person event by using the information provided in the FOR FURTHER INFORMATION CONTACT section of this notice. A virtual public meeting will take place on February 24 from 6:00-7:30 p.m. via the Zoom platform. To register for the virtual session, visit https://blm.zoomgov.com/webinar/register/WN_79HAmxoxQ-GXRVRBXl5U0w. A notice for public meeting(s) regarding the withdrawal application will be announced in the local newspaper and on the agency websites at least 30 days before the meeting(s).

ADDRESSES: All comments should be sent to Sarah Scott, CCNHP Area Withdrawal, Bureau of Land Management Farmington Field Office, 6251 College Blvd. Suite A, Farmington, NM 87402.

A map and other information related to the withdrawal application are available at the Bureau of Land Management Farmington Field Office, 6251 College Blvd., Suite A, Farmington, New Mexico 87402. Details are also available on the project ePlanning website: https://eplanning.blm.gov/eplanning-ui/project/2016892/510.

FOR FURTHER INFORMATION CONTACT: Sarah Scott, BLM Farmington Field Office, (505) 564-7689 or sscott@blm.gov, during regular business hours, 8:00 a.m. to 4:30 p.m., Monday through Friday, except holidays. Persons who use a telecommunications device for the deaf (TDD) may call the Federal Relay Service (FRS) at (800) 877-8339 to contact Ms. Scott. The FRS is available 24 hours a day, 7 days a week, to leave a message or question. You will receive a reply during normal business hours.

SUPPLEMENTARY INFORMATION: The BLM has filed a petition/application requesting the Secretary of the Interior to withdraw public lands and interests in lands (excluding lands with federally owned fractional mineral interests) situated within the boundaries of the area depicted on the map submitted with the application, titled Appendix B: Chaco Culture National Historical Park Area Withdrawal, dated November 30, 2021. The Secretary has approved the BLM's petition for approval to file its withdrawal application and proposed the withdrawal as requested. Following consideration of environmental and other analyses prepared by the BLM in support of its application, the Secretary will decide whether to establish the withdrawal.

The purpose of the proposed withdrawal would be to protect these public lands and the greater connected landscape with a rich Puebloan, Tribal Nations, and cultural legacy in northwestern New Mexico from industrial impacts associated with oil and gas development activities and from adverse effects of locatable mineral exploration and mining, subject to valid existing rights. This proposed withdrawal area holds a deep meaning for the Indigenous peoples whose ancestors lived, worked, traded, and thrived in this high-desert community. Existing uses of the public lands may continue in accordance with their terms and conditions (except for the location or relocation of mining claims and the sale of new oil and gas leases) during the segregation period, including but not limited to livestock grazing, and lawful ingress and egress to any valid or patented mining claims and mineral leases that may exist on these lands. There may be continued use of all public lands and lawful access to non-Federal lands and interest in lands; current recreational uses including hunting, camping and day use; and all commercial uses being conducted under special use permits. Temporary uses that may be permitted during the segregation period are leases, licenses, permits, rights-of-way, and other uses consistent with the 2003 Farmington Resource Management Plan, as amended.

The legal description is as follows:

New Mexico Principal Meridian, New Mexico

T. 20 N., R. 6 W.,

Sec. 6, lots 3 thru 7, SE¼NW¼, and E½SW¼;

Sec. 7;

Sec. 8, W½;

Secs. 17 thru 20 and sec. 30.

T. 21. N., R. 6 W.,

Sec. 18, lot 4;

Sec. 19, lots 3 and 4, E½SW¼, and SW¼SE¼;

Sec. 30, lots 1 thru 4, W½NE¼, E½NW¼, E½SW¼, and SE¼;

Sec. 31, lots 1 thru 4, NE¼, E½NW¼, and E½SW¼;

Sec. 32, SW¼NW¼ and W½SW¼.

T. 19 N., R. 7 W.,

Sec. 1, lots 5 thru 7 and SW¼SE¼;

Sec. 5, S½;

Sec. 6, lots 1, 2, 6, and 7, S½NE¼, E½SW¼, and SE¼;

Secs. 7 and 8;

Sec. 11, S½;

Sec. 12, lots 1 and 2, W½NE¼, and NW¼;

Secs. 17 thru 19;

Sec. 20, N½ and SW¼;

Sec. 21;

Sec. 22, W½;

Sec. 27, NW¼NE¼, N½NW¼, and SW¼NW¼;

Sec. 28, N½, SW¼, and N½SE¼;

Secs. 29 thru 31.

T. 20 N., R. 7 W.,

Secs. 2 and 3;

Sec. 4, SW¼;

Secs. 5 thru 7;

Sec. 8, N½ and SW¼;

Secs. 9 thru 12;

Secs. 17, 19, 21, and 29;

Sec. 30, lots 1 thru 4, E½NW¼, E½SW¼, and SE¼;

Sec. 31;

Sec. 32, N½ and SW¼;

Sec. 33, SW¼.

T. 21 N., R. 7 W.,

Sec. 2, lot 4, S½NW¼, SW¼, NW¼SE¼, and S½SE¼;

Secs. 3 thru 5;

Sec. 6, lots 1 and 2, S½NE¼, and SE¼;

Secs. 7 thru 11;

Sec. 12, SW¼NW¼, SW¼, and SW¼SE¼;

Sec. 13, NW¼NE¼, S½NE¼, NW¼, and S½;

Sec. 14 and secs. 15 thru 18;

Sec. 19, lots 1 thru 4, NE¼, E½NW¼, and E½SW¼;

Sec. 20, N½;

Secs. 21 thru 23;

Sec. 24, SW¼;

Sec. 25, W½;

Sec. 26, N½ and SE¼;

Sec. 27, N½;

Sec. 28, N½ and SW¼;

Sec. 29, NE¼ and S½;

Sec. 32, NE¼, and S½;

Sec. 33, W½;

Sec. 35, E½;

Sec. 36, N½ and SE¼.

T. 22 N., R. 7 W.,

Sec. 28, S½SW¼;

Sec. 29, S½NW¼ and S½;

Secs. 30, 31, and 33;

Sec. 34, SW¼NW¼, SW¼, and S½SE¼.

T. 19 N., R. 8 W.,

Secs. 1 and 2;

Sec. 3, lots 3 and 4, S½NW¼, and S½;

Sec. 9, E½ and E½SW¼;

Secs. 10 thru 15;

Sec. 16, lots 3 thru 7, NE¼, NE¼SW¼, and N½SE¼;

Sec. 18, lots 3 and 4 and E½SW¼;

Sec. 19;

Sec. 20, N½ and SW¼;

Sec. 21, S½SE¼;

Secs. 23 thru 25, 27, and 29;

Sec. 30, lots 1 and 4, E½, NE¼NW¼, and SE¼SW¼;

Secs. 33 thru 35.

T. 20 N., R. 8 W.,

Tracts 37, 40, 41, 48, 49, 52 thru 55, 58, 61 thru 69, 73, 77, and 78;

Tracts 85, 86, 92, 94 thru 98, 102, 104, and 105.

T. 21 N., R. 8 W.,

Secs. 3 thru 9;

Sec. 10, N½ and SW¼;

Sec. 11, N½ and SE¼;

Sec. 13;

Sec. 14, E½;

Secs. 17, 18, and 22 thru 24;

Sec. 26, N½ and SE¼;

Sec. 34, lots 1 thru 8 and NE¼;

Secs. 35 and 36.

T. 22 N., R. 8 W.,

Sec. 7, lots 1 thru 4, SE¼NW¼, E½SW¼, NW¼SE¼, and S½SE¼;

Sec. 17, NW¼NW¼, S½NW¼, SW¼, NW¼SE¼, and S½SE¼;

Sec. 18;

Sec. 20, N½ and SW¼;

Sec. 21, SW¼NE¼, NW¼NW¼, S½NW¼, and SE¼;

Sec. 22, S½;

Sec. 23, S½;

Sec. 24, S½SW¼ and S½SE¼;

Secs. 25 thru 27;

Sec. 28, E½;

Sec. 31, lots 3 thru 8 and E½SW¼;

Secs. 32 thru 35.

T. 19 N., R. 9 W.,

Sec. 3, lots 1 thru 4, S½NE¼, S½NW¼, and SW¼;

Sec. 12;

Sec. 14, N½ and SE¼;

Sec. 15, NW¼ and S½;

Sec. 23;

Sec. 24, NW¼ and S½;

Sec. 27;

Sec. 30, lots 1 and 2;

Sec. 35.

T. 20 N., R. 9 W.,

Sec. 4;

Sec. 5, SW¼;

Sec. 6;

Sec. 7, lots 1 and 2, E½, and E½NW¼;

Secs. 8 and 9;

Sec. 17, N½;

Sec. 18, NE¼;

Sec. 30.

T. 21 N., R. 9 W.,

Sec. 3, lot 4;

Sec. 4, lots 1 and 4.

T. 22 N., R. 9 W.,

Sec. 1, SW¼NW¼, NW¼SE¼, and S½SE¼;

Secs. 3 thru 9 and secs. 12 thru 15;

Sec. 16, S½;

Sec. 17;

Sec. 18, lots 3 and 4, E½, and E½SW¼;

Secs. 19 and 20;

Sec. 21, NE¼ and S½;

Secs. 22 thru 24;

Sec. 26, W½;

Secs. 27 thru 34 and sec. 36.

T. 23 N., R. 9 W.,

Sec. 18, SW¼SE¼;

Sec. 19;

Sec. 20, SW¼NE¼;

Sec. 27, SW¼NW¼, SW¼, and SW¼SE¼;

Secs. 28 and 30;

Sec. 31, lots 1 thru 4, E½NW¼, E½SW¼, and SE¼;

Sec. 33, E½;

Sec. 34;

Sec. 35, SW¼NW¼, SW¼, and SW¼SE¼.

T. 17 N., R. 10 W.,

Sec. 30, lot 3, NE¼SW¼, and N½SE¼;

T. 19 N., R. 10 W.,

Sec. 10, SW¼NE¼, SE¼NW¼, NE¼SW¼, and NW¼SE¼;

Sec. 28, SE¼SE¼.

T. 20 N., R. 10 W.,

Sec. 1;

Sec. 2, lots 1 thru 3, lots 5 thru 19, and S½NE¼;

Sec. 3, lots 5 and 6;

Sec. 6;

Sec. 12, lots 1 thru 4;

Secs. 20 and 28;

Sec. 30, NE¼SW¼.

T. 21 N., R. 10 W.,

Sec. 4;

Sec. 5, lot 2 and W½SW¼;

Secs. 6 thru 9 and secs. 16 thru 30;

Sec. 33, lots 1 thru 4;

Sec. 34, lots 1 thru 7, NE¼, NW¼SW¼, S½SW¼, and SW¼SE¼;

Secs. 35 and 36.

T. 22 N., R. 10 W.,

Sec. 1 and secs. 3 thru 9;

Sec. 10, NW¼ and N½SW¼;

Sec. 11, S½;

Secs. 12 and 13;

Sec. 14, W½SW¼;

Sec. 15, S½;

Secs. 16 thru 19;

Sec. 20, SE¼;

Sec. 21, N½;

Sec. 22;

Sec. 23, W½NE¼, W½, and SE¼;

Secs. 24 and 25;

Sec. 27, S½;

Sec. 28, NE¼ and SW¼;

Sec. 30, lots 1 and 2, NE¼, and E½NW¼;

Sec. 34, N½ and SW¼.

T. 23 N., R. 10 W.,

Secs. 5 thru 8;

Sec. 9, SW¼ and SW¼SE¼;

Sec. 13, S½NW¼ and S½;

Sec. 14, S½NE¼, NW¼, and S½;

Sec. 15, NE¼ and S½;

Secs. 17 thru 22;

Sec. 24, NE¼ and S½;

Sec. 25, E½;

Sec. 27, N½ and SE¼;

Sec. 28, N½ and SW¼;

Secs. 29 thru 31 and secs. 33 and 34.

T. 24 N., R. 10 W.,

Secs. 17 thru 20 and sec. 29;

Sec. 30, lot 1, E½, E½NW¼, and NE¼SW¼;

Sec. 31.

T. 15 N., R. 11 W.,

Sec. 6;

Sec. 8, N½, N½SW¼, SW¼SW¼, and NW¼SE¼.

Sec. 9, N½NW¼ and SW¼NW¼.

T. 16 N., R. 11 W.,

Sec. 2, lots 1 thru 4, SW¼, NW¼SE¼, and S½SE¼;

Sec. 14, SW¼;

Sec. 21, SW¼;

Sec. 22, NE¼ and SW¼;

Sec. 26, E½NE¼, W½NW¼, SW¼, and W½SE¼;

Secs. 28 and 29;

Sec. 30, lots 1 and 2, E½NW¼, and SE¼;

Sec. 31, lots 1 thru 4, NE¼, E½NW¼, and E½SW¼;

Sec. 33, N½NE¼, SE¼NE¼, W½, NE¼SE¼, S½NW¼SE¼, and S½SE¼;

Sec. 34, N½, SW¼, N½SE¼, and SW¼SE¼.

T. 17 N., R. 11 W.,

Sec. 2, SE¼;

Sec. 3, lots 1 and 2 and S½NE¼;

Sec. 4, SE¼;

Sec. 10, N½SW¼ and N½SE¼;

Secs. 12, 14, and 18;

Sec. 19, lots 3 and 4 and E½SW¼;

Sec. 22, S½;

Sec. 24;

Sec. 32, SW¼;

Sec. 34, NW¼ and S½.

T. 18 N., R. 11 W.,

Sec. 18.

T. 20 N., R. 11 W.,

Sec. 22, NE¼NE¼;

Sec. 23, W½NW¼NW¼;

Sec. 26, E½SE¼.

T. 21 N., R. 11 W.,

Secs. 1 thru 3;

Sec. 4, lots 3 and 4, S½NW¼, and S½;

Sec. 5, lots 3 and 4 and S½NW¼;

Sec. 6, lots 1 thru 5, S½NE¼, and SE¼NW¼;

Secs. 7 thru 10;

Sec. 11, lot 1, N½, SW¼, N½SE¼, and SW¼SE¼;

Sec. 12, lots 10 thru 15, N½, N½SW¼, and N½SE¼;

Sec. 13, lots 1 thru 4, S½NE¼, S½NW¼, and S½;

Sec. 14, lot 1, W½NE¼, SE¼NE¼, W½, and SE¼;

Secs. 15 thru 25;

Sec. 26, NE¼;

Secs. 28 and 30.

T. 22 N., R. 11 W.,

Secs. 2 and 6;

Sec. 10, SE¼;

Sec. 12;

Sec. 14, SW¼;

Sec. 18, lots 1 thru 4, E½NW¼, and E½SW¼;

Sec. 22;

Sec. 24, SW¼NE¼ and W½;

Sec. 26, NE¼ and S½;

Sec. 28, W½;

Sec. 30;

Sec. 34, SE¼.

T. 23 N., R. 11 W.,

Secs. 1 thru 4 and sec. 6;

Sec. 7, lots 1 and 2, NE¼, and E½NW¼;

Sec. 8, S½;

Secs. 9 thru 11;

Sec. 12, N½ and SE¼;

Secs. 13 thru 15, sec. 17, and secs. 21 thru 23;

Sec. 24, N½ and SE¼;

Sec. 25, NW¼ and S½;

Sec. 26;

Sec. 27, N½ and SE¼;

Sec. 28, NE¼ and N½NW¼;

Sec. 33, S½NE¼, S½NW¼, and S½;

Sec. 34, S½SW¼;

Sec. 35, NE¼;

Sec. 36, S½.

T. 24 N., R. 11 W.,

Sec. 13, NW¼;

Sec. 14;

Sec. 15, lot 1, lots 5 thru 8, lot 10, and S½;

Sec. 16, lots 10, 13, and 14;

Sec. 20, lots 3, 5 and 6;

Sec. 21, lots 7 thru 10 and SE¼;

Sec. 22, NE¼ and S½;

Sec. 23;

Sec. 24, NE¼ and S½;

Sec. 25, W½;

Secs. 26 thru 28;

Sec. 29, lots 1 and 2, lots 5 thru 8, lots 10 thru 14, and SE¼;

Sec. 30, lots 6 thru 13;

Sec. 31 and secs. 33 thru 36.

T. 15 N., R. 12 W.,

Sec. 8, SW¼NE¼;

Sec. 10, SW¼.

T. 16 N., R. 12 W.,

Secs. 6 and 8;

Sec. 10, NW¼;

Sec. 14, NW¼ and S½;

Sec. 20, N½ and SW¼;

Secs. 22 and 24;

Sec. 26, N½ and SE¼;

Secs. 28 and 30;

Sec. 32, E½;

Sec. 35, SW¼.

T. 17 N., R. 12 W.,

Sec. 4, SE¼;

Sec. 6, lots 1 thru 5, S½NE¼, and SE¼NW¼;

Sec. 8, NE¼ and S½;

Sec. 10, NW¼;

Sec. 20, W½;

Sec. 22, N½;

Sec. 24, NE¼;

Sec. 26, E½;

Sec. 28, SE¼;

Sec. 30;

Sec. 32, W½ and SE¼SE¼;

Sec. 36;

Tract 37.

T. 18 N., R. 12 W.,

Sec. 1;

Sec. 2, lots 1 thru 4, S½NW¼, and SW¼;

Sec. 4, SE¼;

Secs. 11 thru 13;

Sec. 14, N½;

Sec. 16;

Sec. 20, N½ and SW¼;

Secs. 22 thru 25;

Sec. 30, SE¼;

Sec. 32, SW¼, NW¼SE¼, and S½SE¼.

T. 19 N., R. 12 W.,

Sec. 1;

Sec. 8, NW¼;

Sec. 9, NE¼;

Sec. 16, SW¼NE¼, SE¼NW¼, NE¼SW¼, and NW¼SE¼;

Sec. 21;

Sec. 30, E½;

Sec. 31.

T. 20 N., R. 12 W.,

Sec. 4, lots 5 thru 16;

Sec. 5, S½NW¼, SW¼, and W½SE¼;

Sec. 6, lots 3 and 4, lot 8, and lots 9 thru 11;

Sec. 8, SW¼;

Sec. 17, NW¼NE¼ and N½NW¼;

Sec. 18;

Sec. 20, SE¼;

Sec. 22, N½ and SE¼;

Sec. 26;

Sec. 30, lots 3 and 4 and E½SW¼.

T. 21 N., R. 12 W.,

Secs. 1 and 4;

Sec. 10;

Sec. 22, NW¼;

Sec. 24, SW¼;

Sec. 25;

Sec. 28, NE¼ and S½;

Sec. 31, E½SE¼;

Secs. 32 and 34.

T. 22 N., R. 12 W.,

Sec. 1, S½;

Sec. 3, SE¼;

Sec. 4;

Sec. 5, SE¼;

Sec. 6;

Sec. 7, SE¼;

Sec. 8;

Sec. 9, NW¼ and S½;

Secs. 10 thru 15;

Sec. 17, SW¼;

Sec. 18;

Sec. 19, lots 1 and 2, NE¼, and E½NW¼;

Sec. 21, N½;

Secs. 22 thru 27;

Sec. 28, N½;

Sec. 29;

Sec. 30, lots 3 and 4, E½SW¼, and SE¼;

Sec. 33, lots 1 thru 8 and NW¼;

Sec. 34;

Sec. 35, N½ and SE¼.

T. 23 N., R. 12 W.,

Sec. 1;

Sec. 3, lots 5 thru 16;

Sec. 4;

Sec. 5, lots 9 thru 20;

Sec. 6, lots 12 thru 15;

Sec. 9, E½;

Sec. 10, lots 1 thru 8;

Sec. 13;

Sec. 14, lots 1 thru 8 and NW¼;

Sec. 15, lots 1 thru 8;

Sec. 17, lot 5 and W½SW¼;

Sec. 18, lots 3, 4, and 6, SE¼NE¼, E½SW¼, and SE¼;

Sec. 19;

Sec. 20, lots 4 thru 6 and lots 9 thru 16;

Sec. 21, lots 1 thru 3 and lots 6 thru 16;

Secs. 22 thru 24;

Sec. 25, E½;

Secs. 26 thru 30;

Sec. 33, W½;

Sec. 35, SE¼SE¼.

T. 24 N., R. 12 W.,

Sec. 35, lots 9 and 10 and lots 13 thru 16;

Sec. 36, lots 1 and 2 and lots 5 thru 18.

T. 15 N., R. 13 W.,

Sec. 2, lots 3 and 4 and S½NW¼.

T. 16 N., R. 13 W.,

Sec. 2;

Sec. 10, NW¼;

Sec. 18, lots 1 and 2 and E½NW¼;

Sec. 26, NW¼;

Sec. 36.

T. 17 N., R. 13 W.,

Sec. 2, lots 1 and 2 and S½NE¼;

Sec. 5, lots 3 and 4, S½NW¼, and S½;

Secs. 10 and 12;

Sec. 15, SE¼;

Sec. 19;

Sec. 21, NW¼;

Sec. 24, NE¼ and S½;

Sec. 26, SW¼;

Sec. 28, SW¼;

Secs. 32 and 33;

Sec. 34, NW¼.

T. 18 N., R. 13 W.,

Sec. 1;

Sec. 2, lots 1 and 2, S½NE¼, SW¼, and E½SE¼;

Secs. 3, 5, 9, 11, 13, and 15;

Sec. 19, SE¼;

Secs. 20, 21, 23, 25, 27, 29, and 31;

Sec. 32, NE¼ and SW¼;

Sec. 33;

Sec. 34, W½;

Sec. 35;

Sec. 36, SW¼.

T. 19 N., R. 13 W.,

Secs. 2 and 4;

Sec. 6, SE¼;

Sec. 14, NW¼;

Sec. 15, S½SW¼ and S½SE¼;

Sec. 18, lots 5 thru 12 and NE¼;

Sec. 19, lot 3, lots 5 thru 8, E½, and E½SW¼;

Secs. 20 thru 22;

Sec. 24, SW¼;

Secs. 28 and 29;

Sec. 32, NE¼, N½NW¼, SE¼NW¼, SW¼, and N½SE¼;

Sec. 33;

Sec. 34, N½ and SW¼;

Sec. 36.

T. 20 N., R. 13 W.,

Sec. 4;

Sec. 6, lots 6 and 7 and E½SW¼;

Sec. 7, lot 2, W½SW¼NE¼, and SE¼NW¼;

Secs. 8, 10, 12, 14, 18, 20, 22, 24, 26, 28, and 30;

Sec. 32, N½;

Sec. 34.

T. 21 N., R. 13 W.,

Secs. 3 thru 6;

Sec. 8, N½ and SW¼;

Sec. 9;

Sec. 10, NE¼;

Secs. 11 and 13;

Sec. 14, lots 1 thru 12;

Sec. 15;

Sec. 17, N½ and SE¼;

Secs. 18, 19, and 21;

Sec. 22, N½;

Sec. 23;

Sec. 24, NE¼ and S½;

Secs. 25 and 27;

Sec. 28, NE¼ and SW¼;

Sec. 29;

Sec. 30, lots 5 thru 8, E½NW¼, and E½SW¼;

Secs. 31 and 33;

Sec. 34, NW¼;

Sec. 35.

T. 22 N., R. 13 W.,

Sec. 1, lots 3 and 4 and S½NW¼;

Sec. 3, SW¼;

Sec. 4, lots 3 and 4, S½NW¼, and S½;

Sec. 5;

Sec. 8, NW¼ and S½;

Sec. 9, NE¼ and SW¼;

Sec. 10;

Sec. 11, NW¼ and S½;

Sec. 12, S½;

Sec. 13, NE¼, NE¼SW¼, N½SE¼, and SE¼SE¼;

Sec. 14, N½ and W½SE¼;

Sec. 15, NE¼;

Sec. 17;

Sec. 19, lot 4, NE¼NE¼, S½NE¼, E½SW¼, and SE¼;

Sec. 20, W½;

Sec. 21, N½NW¼;

Sec. 23;

Sec. 24, N½NE¼, SE¼NE¼, NW¼, and S½;

Sec. 25, E½;

Sec. 27, SW¼;

Secs. 28 thru 30;

Sec. 31, lots 1 thru 3, E½, E½NW¼, and NE¼SW¼;

Sec. 33;

Sec. 34, E½;

Sec. 35.

T. 23 N., R. 13 W.,

Sec. 2, S½;

Sec. 3, S½SE¼;

Sec. 15, S½NW¼ and S½;

Sec. 20, E½SW¼, and SE¼;

Sec. 21, S½;

Sec. 22, SW¼;

Sec. 26;

Sec. 27, NE¼ and S½;

Sec. 28;

Sec. 29, NE¼, NE¼NW¼, S½NW¼, and S½;

Sec. 34;

Sec. 35, NE¼ and SW¼.

The area aggregates 351,479.97 acres in San Juan County, New Mexico.

There are no suitable alternative sites, and no water rights will be needed for this withdrawal.

For a period until April 6, 2022, persons who wish to submit comments, suggestions, or objections related to the withdrawal application may present their views in writing to the individual listed in the ADDRESSES section earlier. Comments will be available for public review by appointment at the BLM Farmington Field Office, 6251 College Blvd. Suite A, Farmington, NM 87402, during regular business hours, 8:00 a.m. to 4:30 p.m., Monday through Friday, except holidays.

Before including your address, phone number, email address, or other personal identifying information in your comment, you should be aware that your entire comment—including your personal identifying information—may be made publicly available at any time. While you may ask BLM in your comment to withhold your personal identifying information from public review, we cannot guarantee that we will be able to do so.

A notice for public meeting(s) regarding the withdrawal application will be announced in the local newspaper and on the agency websites at least 30 days before the meeting(s). For a period until January 6, 2024, subject to valid existing rights, the BLM lands described in this notice will be temporarily segregated from location and entry under the United State mining laws and from leasing under the mineral leasing laws, but not disposal under the mineral materials laws, unless the application is denied or canceled or the withdrawal is approved prior to that date. All activities currently consistent with the 2003 Farmington Resource Management Plan, as amended, are authorized to continue, including public recreation, mineral materials disposition, and other activities compatible with preservation of the character of the area, subject to BLM discretionary approval, during the segregation period.

(Authority: 43 CFR part 2300)

Melanie G. Barnes,
Acting State Director, New Mexico.

[FR Doc. 2021-28525 Filed 1-5-22; 8:45 am]

BILLING CODE 4310-FB-P